DEPARTMENT OF HEALTH AND HUMAN SERVICES

Administration for Community Living

Agency Information Collection Activities; Proposed Collection; Comment Request; Reinstatement With Changes to Title III Supplemental Form to the Financial Status Report

AGENCY: Administration for Community Living, HHS

ACTION: Notice.

SUMMARY: The Administration for Community Living (ACL) is announcing an opportunity for public comment on the proposed collection of certain information by the agency. Under the Paperwork Reduction Act of 1995 (the PRA), Federal agencies are required to publish notice in the Federal Register concerning each proposed collection of information and to allow 60 days for public comment in response to the notice. This notice solicits comments on the information collection requirements relating to the Supplemental Form to the Financial Status Report for all ACL/AoA Title III Grantees.

DATES: Submit written or electronic comments on the collection of information by June 10, 2014.

ADDRESSES: Submit electronic comments on the collection of information to: Alice.Kelsey@acl.hhs.gov. Submit written comments on the collection of information to the Administration for Community Living, attn: Alice Kelsey, 233 N. Michigan Ave., Suite 790, Chicago, IL 60661.

FOR FURTHER INFORMATION CONTACT: Alice Kelsey, Financial Operations Specialist, Administration for Community Living, attn: Alice Kelsey, 233 N. Michigan Ave., Suite 790, Chicago, IL 60661.

SUPPLEMENTARY INFORMATION: Under the PRA (44 U.S.C. 3501-3520), Federal agencies must obtain approval from the Office of Management and Budget (OMB) for each collection of information they conduct or sponsor. “Collection of information” is defined in 44 U.S.C. 3502(3) and 5 CFR 1320.3(c) and includes agency request or requirements that members of the public submit reports, keep records, or provide information to a third party. Section 3506(c)(2)(A) of the PRA (44 U.S.C. 3506(c)(2)(A)) requires Federal agencies to provide a 60 day notice in the Federal Register concerning each proposed collection of information, before submitting the collection to OMB for approval. To comply with this requirement, ACL is publishing notice of the proposed collection of information set forth in this document. With respect to the following collection of information, ACL invites comments on: (1) Whether the proposed collection of information is necessary for the proper performance of ACL's functions, including whether the information will have practical utility; (2) the accuracy of ACL's estimate of the burden of the proposed collection of information, including the validity of the methodology and assumptions used; (3) ways to enhance the quality, utility, and clarity of the information to be collected; and (4) ways to minimize the burden of the collection of information on respondents, including through the use of automated collection techniques when appropriate, and other forms of information technology. The template may be found on the ACL Web site at http://www.acl.gov/NewsRoom/NewsInfo/docs/FFR-ACL-AoA-TitleIII-Supplemental_SF-425.pdf.

The supplemental form to the Financial Status Report for all ACL/AoA Title III Grantees provides an understanding of how projects funded by the Older Americans Act are being administered by grantees, in conformance with legislative requirements, pertinent Federal regulations and other applicable instructions and guidelines issued by the Administration for Community Living (ACL). This information will be used for Federal oversight of Title III projects. ACL estimates the burden of this collection of information as follows: 56 State Units on Aging (SUA) respond semi-annually which should have an average burden of 2 hours per grantee for a total of 112 hours per submission.

Dated: April 8, 2014.
Kathy Greenlee,
Administrator and Assistant Secretary for Aging.

[FR Doc. 2014-08200 Filed 4-10-14; 8:45 am]

BILLING CODE 4154-01-P